DEPARTMENT OF ENERGY

National Nuclear Security Administration

Notice of Intent To Prepare an Environmental Impact Statement for the Disposition of the Bannister Federal Complex, Kansas City, MO, and Notice of Wetlands Involvement

AGENCY: National Nuclear Security Administration (NNSA), U.S. Department of Energy (DOE).

ACTION: Notice of intent to prepare an environmental impact statement and conduct a public scoping meeting, and notice of wetlands involvement.

SUMMARY: Pursuant to the National Environmental Policy Act of 1969 (NEPA), and the Council on Environmental Quality (CEQ) and U.S. Department of Energy (DOE) regulations implementing NEPA, the National Nuclear Security Administration (NNSA), a semi-autonomous agency within DOE, announces its intention to prepare an environmental impact statement (EIS) for the disposition of the Bannister Federal Complex (BFC) (BFC Disposition EIS; DOE/EIS-0475).

The 300-acre BFC is owned by NNSA and the General Services Administration (GSA). NNSA owns the portion of the BFC known as the Kansas City Plant (KCP), consisting of approximately 122 acres and 38 buildings. GSA owns the remainder of the site, consisting of approximately 175 acres and 13 buildings. Beginning in 2013, NNSA will relocate its operations from the KCP to a newly constructed industrial campus eight miles south of the BFC. Once the move is completed, NNSA's real property at the BFC will be excess to the needs of its mission and will be available for disposition. GSA is currently analyzing its occupancy of the BFC and is performing a separate Environmental Assessment (EA) to evaluate a future relocation option. Because GSA could also decide to relocate its operations away from the BFC, it is a cooperating agency for the preparation of this EIS, which will analyze the potential environmental impacts for the disposition of GSA real property in addition to NNSA real property. The BFC Disposition EIS will analyze the potential environmental impacts associated with reasonably foreseeable potential future uses of the property, which could be different from its current uses. These potential future uses include industrial, warehousing, and commercial/office uses. NNSA also will assess the potential environmental impacts of partial and/or complete demolition of some BFC structures. Because the proposed project could involve actions in wetlands, the EIS will include a wetland assessment.

DATES: NNSA invites comments on the scope of this BFC Disposition EIS. The public scoping period starts with the publication of this Notice in the Federal Register and will continue until February 22, 2012. NNSA will consider all comments received or postmarked by that date in defining the scope of this BFC Disposition EIS. Comments postmarked after that date will be considered to the extent practicable. A public scoping meeting is scheduled to be held on February 13, 2012, from 6:30 p.m. to 10 p.m. at the Evangel Temple, 1414 East 103rd Street, Kansas City, Missouri 64131. NNSA will publish additional notices on the date, time, and location of the scoping meeting in local newspapers before the scheduled meeting. Any changes regarding the scoping meeting will be announced in the local media. This scoping meeting will provide the public an opportunity to present comments, ask questions, and discuss issues with NNSA and GSA officials related to the scope of the BFC Disposition EIS.

ADDRESSES: To submit comments on the scope of the BFC Disposition EIS, ask questions about the document or scoping meeting, or to be included on the document distribution list, please contact: Mr. Nathan Gorn, BFC Disposition EIS Document Manager, NNSA Kansas City Site Office, 2000 E. 95th Street, Kansas City, Missouri 64131; telephone (816) 997-4197; email: BFCDEISComments@nnsa.doe.gov; or via the Internet at http://nnsa.energy.gov/nepa/bfceis.

FOR FURTHER INFORMATION CONTACT: For general information about the DOE NEPA process, please contact: Carol M. Borgstrom, Director, Office of NEPA Policy and Compliance, Office of the General Counsel (GC-54), U.S. Department of Energy, 1000 Independence Avenue SW., Washington, DC 20585; email: askNEPA@hq.doe.gov; telephone: (202) 586-4600; fax: (202) 586-7031; or leave a message at (800) 472-2756. Additional information about DOE NEPA activities is available on the Internet through the NEPA Web site: http://energy.gov/nepa.

For general information about GSA activities at the BFC, please contact: Jeremiah Nelson, Asset Manager, U.S. General Services Administration, 1500 E. Bannister Road, Room 2135, Kansas City, Missouri 64131-3088; email: jeremiah.nelson@gsa.gov; telephone: (816) 823-5803; fax: (816) 926-1140.

SUPPLEMENTARY INFORMATION: Background. The BFC is within the corporate city limits of Kansas City, approximately eight miles south of the city center. It can be accessed via major highways (Interstate 435 and U.S. Highway 71), as well as auxiliary and smaller secondary streets. There are no residences and no agricultural activities or farmlands on the BFC. The adjoining properties are mostly residential with isolated commercial tracts, except along the eastern and northern sides, which have been designated for public and recreational uses.

The mission of the NNSA's KCP at the BFC is to produce or procure non-nuclear electrical and mechanical components for nuclear weapons. At present, the KCP occupies a large 1940s-vintage industrial facility with 38 buildings or other structures on a site contiguous with GSA facilities. The KCP shares individual buildings and utilities with GSA operations. The entire site is known as the BFC. The site is zoned for heavy industry.

Between 2013 and 2015, NNSA will relocate its operations at the BFC in total to a newly constructed industrial campus eight miles south of the current location. NNSA's relocation of operations to the new facility was analyzed in an EA completed by GSA in 2008 and adopted by DOE (DOE/EA-1592). When the move is completed, NNSA real property at the BFC will be excess to the needs of the KCP mission and will be available for disposition. Accordingly, in October 2011, NNSA issued a notice of availability, via the Federal Business Opportunities Web site, soliciting proposals of interest for the transfer, sale or lease of its portion of the BFC property. The NNSA KCP facilities at the BFC include office space and manufacturing space for machining; mechanical and electrical assembly; rubber and plastics formulation and fabrication; painting; heat treatment; quality assurance testing, measurement and laboratory functions; clean rooms; and inventory storage. GSA is evaluating its options to potentially relocate its operations to a new location away from the BFC. If GSA decides to relocate its operations, its real property at the BFC could also be available for disposition. Thus the BFC Disposition EIS will analyze the potential environmental impacts associated with the proposed action to transfer the BFC property either in whole or in part and reasonably foreseeable uses of the property.

The environmental review process under NEPA requires Federal agencies to involve the public in preparing an EIS and to analyze potential impacts on environmental, social, cultural, and economic resources. DOE has options under NEPA for addressing the subject of land transfer and in this case has elected to prepare an EIS. This is a site-specific determination. In this case, the environmental impacts of future uses of the site may or may not be significant. For example, KCP market research indicates that potentially interested parties may demolish and replace some or all of the currently existing structures on the property. As part of the EIS analysis, NNSA expects to assess the potential impacts of partial and/or complete demolition of various buildings on the BFC. Additionally, NNSA and GSA acknowledge the interest that stakeholders have expressed in wanting to understand as fully as possible the nature of legacy contaminants present at the BFC and their potential environmental impacts. Preparation of an EIS affords the greatest opportunity to interact with stakeholders, inform them about potential future uses for the BFC and the results of the NEPA analyses and receive comments from stakeholders on uses and issues for analysis.

Disposition of the property would not take place until the BFC Disposition EIS and all required historical, cultural, and wetland assessments are completed and a Record of Decision is issued.

The BFC has been extensively characterized for the presence of legacy contamination that might impact soils and groundwater at the site. Active remediation has taken place at previously identified solid waste management units with implementation of environmental remedies ongoing. To support the proposed action, NNSA and GSA have submitted requests for a modified Missouri Hazardous Waste Management Facility Permit with Region 7 of the U.S. Environmental Protection Agency (EPA) and the Missouri Department of Natural Resources (MDNR) that will require a BFC-wide comprehensive environmental assessment and remediation program under the Resource Conservation and Recovery Act (RCRA). This anticipated environmental assessment will identify and characterize any remaining environmental contamination and define actions that may need to be taken to contain or eliminate any threat to human health or the environment. The outcome of this reexamination of the BFC could include identifying the need to conduct additional NEPA analyses and/or to place restrictions on the potential future uses of the property.

During the BFC Disposition EIS process, NNSA will consult with: (1) Region 7 of the EPA and the MDNR, in accordance with NEPA on environmental issues associated with disposition of the BFC including but not limited to the RCRA assessment described above; and (2) the Missouri State Historic Preservation Office, in accordance with Section 106 of the National Historic Preservation Act.

The BFC lies within the 100-year floodplain of the Blue River and Indian Creek, but is protected from a 500-year flood by a federally funded floodwall and earthen berm system and is, therefore, not considered to be in the 100-year floodplain per the Federal Insurance Rate Map. Based on a 2009 Jurisdictional Waters Determination Report prepared by NNSA, the U.S. Army Corps of Engineers (USACE) has determined that there are no wetlands or jurisdictional waters on the NNSA-owned property at the BFC. USACE has determined that there are 2.95 acres of jurisdictional waters on the GSA-owned property. In accordance with 10 CFR part 1022, DOE Compliance with Floodplain and Wetland Environmental Review Requirements, and GSA Order ADM 1095.5, Consideration of Wetlands in Decisionmaking, dated January 12, 2001, the BFC Disposition EIS will include a wetlands assessment that discusses the effects of the proposed action and alternatives on the wetlands and evaluates measures that mitigate the adverse effects in the wetlands.

Purpose and Need for Agency Action. The purpose and need for agency action is to dispose of excess federal property, in an environmentally safe and fiscally responsible manner. The proposed action will likely involve conveying the title of usable facilities and land at the BFC to an entity(ies) that would use, market, sell, lease, or otherwise develop the transferred facilities and property to conduct commercial activities in the Kansas City area.

Proposed Action and Alternatives. The proposed action is to transfer the BFC property either in whole or in part for uses that could be different from its current use. The BFC Disposition EIS will consider the following alternatives: (1) No Action:—the status quo is maintained with NNSA and/or GSA continuing to conduct operations at the BFC; (2) Federal Site Stewardship under which a significant portion of the BFC is vacated but the entire site remains the property of the NNSA and GSA and is unused; and (3) a group of at least four Transfer Action Alternatives with conveyance of title, occupancy and use of the entire BFC or a significant portion thereof to other entity(ies) that reflect a range of potential future uses. The group of four Action Alternatives that NNSA currently expects to evaluate include: (1) High intensity use, such as heavy industrial, (2) low intensity use: that would involve demolition of the BFC facilities and conversion to “green use” as parkland, nature preserve, or similar uses; (3) low-moderate intensity use, such as warehousing and commercial/office uses; and (4) high-moderate intensity use, such as light industrial, warehousing, and commercial/office uses. The BFC Disposition EIS will also evaluate any reasonable alternatives that may be identified during public scoping.

Preliminary Identification of Environmental Issues. Issues tentatively identified for analysis in the BFC Disposition EIS include impacts associated with: land use, aesthetics, climate and air quality, geology and soils, water resources, biological resources, cultural and historic resources, socioeconomics, waste management, human health and safety, accidents, and environmental justice.

EIS Process and Invitation to Comment. The EIS scoping process provides an opportunity for the public to assist the NNSA and GSA in determining issues for analysis in the BFC Disposition EIS. A public scoping meeting will be held as noted under DATES in this Notice. The purpose of the scoping meeting is to provide attendees an opportunity to present comments, ask questions, and discuss issues about the BFC Disposition EIS with NNSA and GSA officials. Comments can also be provided to Mr. Nathan Gorn as noted in this Notice under ADDRESSES.

The EIS scoping meeting will use a format to provide the public with information regarding the proposed BFC Disposition EIS, and to provide individuals the opportunity to give written or oral comments. NNSA and GSA welcome specific comments or suggestions on the BFC Disposition EIS process and future uses of the BFC. The BFC Disposition EIS will describe potential environmental impacts of each alternative by using available data when possible and obtaining additional data when necessary. Copies of written comments and transcripts of oral comments provided during the scoping period will be available at the Mid-Continent Public Library, Blue Ridge Branch, 9253 Blue Ridge Boulevard, Kansas City, Missouri 64138 and on the Internet at http://nnsa.energy.gov/nepa/bfceis.

After the close of the public scoping period, NNSA and GSA will begin developing the Draft BFC Disposition EIS. NNSA and GSA expect to issue the Draft EIS for public review by mid-2012. The public comment period on the Draft EIS will begin with the publication of the EPA Notice of Availability in the Federal Register.

The Notice of Availability, along with notices placed in local newspapers, will provide dates and locations for public hearings and the deadline for comments on the Draft BFC Disposition EIS. Once issued, the BFC Disposition EIS will be available on the Internet at http://nnsa.energy.gov/nepa/bfceis. Persons who would like to receive a copy of the Draft EIS for review should notify Mr. Nathan Gorn at the address noted under ADDRESSES.

Issued in Washington, DC, this 17th day of January 2012.
Thomas P. D'Agostino,
Administrator, National Nuclear Security Administration.

[FR Doc. 2012-1207 Filed 1-20-12; 8:45 am]

BILLING CODE 6450-01-P